DEPARTMENT OF TRANSPORTATION

Surface Transportation Board

[STB Docket Nos. AB-33 (Sub-No. 148X) and AB-515 (Sub-No. 1X)]

Union Pacific Railroad Company—Abandonment Exemption—In Coos County, OR and Central Oregon & Pacific Railroad, Inc.—Discontinuance Exemption—in Coos County, OR

On July 12, 2000, Union Pacific Railroad Company (UP) and Central Oregon & Pacific Railroad, Inc. (CORP), jointly filed with the Surface Transportation Board a petition under 49 U.S.C. 10502 for exemption from the provisions of 49 U.S.C. 10903. UP seeks to abandon and CORP seeks to discontinue service over a line of railroad extending between milepost 785.50 and milepost 786.50 at Coquille, OR, a distance of 1 mile in Coos County, OR (the Line).¹ There are no stations on the Line, which traverses U.S. Postal Service Zip Code 97423.

¹ On December 31, 1994, CORP leased the Line from Southern Pacific Transportation Company (SP). See Central Oregon & Pacific Railroad, Inc.—Lease, Operation, and Acquisition Exemption—Southern Pacific Transportation Company, Finance Docket No. 32567 (ICC notice served Jan. 19, 1995), (STB decision served Feb. 13, 1996). UP acquired the Line on February 1, 1998, when SP was merged into UP. See Union Pacific Corporation, Union Pacific Railroad Company, and Missouri Pacific Railroad Company—Control and Merger—Southern Pacific Rail Corporation, Southern Pacific Transportation Company, St. Louis Southwestern Railway Company, SPCSL Corp., and The Denver and Rio Grande Western Railroad Company, STB Finance Docket No. 32760, Decision No. 44 (STB served Aug. 12, 1996).

The Line does not contain federally granted rights-of-way. Any documentation in UP's or CORP's possession will be made available promptly to those requesting it.

The interests of railroad employees will be protected by the conditions set forth in Oregon Short Line R. Co.—Abandonment—Goshen, 360 I.C.C. 91 (1979).

By issuance of this notice, the Board is instituting an exemption proceeding pursuant to 49 U.S.C. 10502(b). A final decision will be issued by October 30, 2000.

Any offer of financial assistance under 49 CFR 1152.27(b)(2) will be due no later than 10 days after service of a decision granting the petition for exemption. Each offer of financial assistance must be accompanied by a $1,000 filing fee. See 49 CFR 1002.2(f)(25).

All interested persons should be aware that following abandonment of rail service and salvage of the Line, the Line may be suitable for other public use, including interim trail use. Any request for a public use condition under 49 CFR 1152.28 and any request for trail use/rail banking under 49 CFR 1152.29 will be due no later than 20 days after notice of the filing of the petition for exemption is published in the Federal Register. Each trail use request must be accompanied by a $150 filing fee. See 49 CFR 1002.2(f)(27).

All filings in response to this notice must refer to STB Docket Nos. AB-33 (Sub-No. 148X) and AB-515 (Sub-No. 1X) and must be sent to: (1) Surface Transportation Board, Office of the Secretary, Case Control Unit, 1925 K Street, N.W., Washington, DC 20423-0001, (2) Karl Morell, Of Counsel, Ball Janik LLP, 1455 F Street, N.W., Suite 225, Washington, DC 20005, and (3) James P. Gatlin, 1416 Dodge Street #830, Omaha, NE 68179.

Persons seeking further information concerning abandonment procedures may contact the Board's Office of Public Services at (202) 565-1592 or refer to the full abandonment or discontinuance regulations at 49 CFR part 1152. Questions concerning environmental issues may be directed to the Board's Section of Environmental Analysis (SEA) at (202) 565-1545. [TDD for the hearing impaired is available at 1-800-877-8339.]

An environmental assessment (EA) (or environmental impact statement (EIS), if necessary) prepared by SEA will be served upon all parties of record and upon any agencies or other persons who commented during its preparation. Any other persons who would like to obtain a copy of the EA (or EIS) may contact SEA. EAs in these abandonment proceedings normally will be available within 60 days of the filing of the petition. The deadline for submission of comments on the EA will generally be within 30 days of its service.

Board decisions and notices are available on our website at “WWW.STB.DOT.GOV.”

Decided: July 24, 2000.
By the Board, David M. Konschnik, Director, Office of Proceedings.
Vernon A. Williams,
Secretary.

[FR Doc. 00-19274 Filed 7-31-00; 8:45 am]

BILLING CODE 4915-00-P